DEPARTMENT OF HOMELAND SECURITY

U.S. Citizenship and Immigration Services

[CIS No. 2772-24; DHS Docket No. USCIS-2014-0001]

RIN 1615-ZB70

Extension and Redesignation of Haiti for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Haiti for Temporary Protected Status (TPS) and redesignating Haiti for TPS for 18 months, beginning on August 4, 2024, and ending on February 3, 2026. This extension and redesignation allows Haitian nationals (and individuals having no nationality who last habitually resided in Haiti) who have been continuously residing in the United States since June 3, 2024, and who have been continuously physically present in the United States since August 4, 2024, to apply or re-register for TPS.

DATES: Extension and Redesignation of Designation of Haiti for TPS begins on August 4, 2024, and will remain in effect for 18 months. For registration instructions, see the Registration Information section below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For more information on TPS, including guidance on the registration process and additional information on eligibility, please visit the USCIS TPS web page at https://www.uscis.gov/tps. You can find specific information about Haiti's TPS designation by selecting “Haiti” from the menu on the left side of the TPS web page.

• If you have additional questions about TPS, please visit https://uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at Agenda: or visit the USCIS Contact Center at https://www.uscis.gov/contactcenter.

• You can also find more information at local USCIS offices after this notice is published.

SUPPLEMENTARY INFORMATION:

Table of Abbreviations

BIA—Board of Immigration Appeals

CFR—Code of Federal Regulations

DHS—U.S. Department of Homeland Security

DoS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

PM—Prime Minister

SAVE—USCIS Systematic Alien Verification for Entitlements Program

Secretary—Secretary of Homeland Security

TPS—Temporary Protected Status

TTY—Text Telephone

USCIS—U.S. Citizenship and Immigration Services

U.S.C.—United States Code

Registration Information

Extension of Designation of Haiti for TPS: The 18-month designation of Haiti for TPS begins on August 4, 2024, and will remain in effect for 18 months, ending on February 3, 2026. The extension allows existing TPS beneficiaries to retain TPS through February 3, 2026, if they otherwise continue to meet the eligibility requirements for TPS. Existing TPS beneficiaries who wish to extend their status through February 3, 2026, must re-register during the 60-day re-registration period described in this notice.

Re-registration: The 60-day re-registration period for existing beneficiaries runs from July 1, 2024, through August 30, 2024. (Note: It is important for re-registrants to timely re-register during the re-registration period and not to wait until their Employment Authorization Documents (EADs) expire, as delaying re-registration could result in gaps in their employment authorization documentation.)

Redesignation of Haiti for TPS: The 18-month redesignation of Haiti for TPS begins on August 4, 2024, and will remain in effect for 18 months, ending on February 3, 2026. The redesignation allows individuals who do not currently have TPS to apply for TPS during the initial registration period described under the first-time registration information in this notice. In addition to demonstrating continuous residence in the United States since June 3, 2024, and meeting other eligibility criteria, initial applicants for TPS under this designation must demonstrate that they have been continuously physically present in the United States since August 4, 2024, the effective date of this redesignation of Haiti for TPS.

First-time Registration: The initial registration period for new applicants under the Haiti TPS redesignation begins on July 1, 2024 and will remain in effect through February 3, 2026.

Purpose of This Action (TPS)

Through this notice, DHS sets forth procedures necessary for nationals of Haiti (or individuals having no nationality who last habitually resided in Haiti) to (1) re-register for TPS and apply to renew their EAD with USCIS or (2) submit an initial registration application under the redesignation and apply for an EAD.

Re-registration is limited to individuals who have previously registered for TPS under the prior designation of Haiti and whose applications have been granted. If you do not re-register properly within the 60-day re-registration period, USCIS may withdraw your TPS following appropriate procedures. See 8 CFR 244.14.

For individuals who have already been granted TPS under Haiti's designation, the 60-day re-registration period runs from July 1, 2024, through August 30, 2024. USCIS will issue new EADs with a February 3, 2026 expiration date to eligible beneficiaries granted TPS under Haiti's designation who timely re-register and apply for EADs. Given the time frames involved with processing TPS re-registration applications, DHS recognizes that not all re-registrants may receive a new EAD before their current EAD expires. Accordingly, through this Federal Register notice, DHS automatically extends through August 3, 2025, the validity of certain EADs previously issued under the TPS designation of Haiti. As proof of continued employment authorization through August 3, 2025, TPS beneficiaries can show their EAD with the notation A-12 or C-19 under Category and a “Card Expires” date of August 3, 2024, June 30, 2024, February 3, 2023, December 31, 2022, October 4, 2021, January 4, 2021, January 2, 2020, July 22, 2019, January 22, 2018, or July 22, 2017. This notice explains how TPS beneficiaries and their employers may determine if an EAD is automatically extended and how this affects the Form I-9, Employment Eligibility Verification, E-Verify, and USCIS Systematic Alien Verification for Entitlements (SAVE) processes.

Individuals who have an Application for Temporary Protected Status (Form I-821) for Haiti or Application for Employment Authorization (Form I-765) that was still pending as of July 1, 2024, do not need to file either application again. If USCIS approves an individual's pending Form I-821, USCIS will grant the individual TPS through February 3, 2026. Similarly, if USCIS approves a pending TPS-related Form I-765, USCIS will issue the individual a new EAD that will be valid through the same date.

Under the redesignation, individuals who currently do not have TPS may submit an initial application during the initial registration period that runs from July 1, 2024, through the full length of the redesignation period ending February 3, 2026. In addition to demonstrating continuous residence in the United States since June 3, 2024, and meeting other eligibility criteria, initial applicants for TPS under this redesignation must demonstrate that they have been continuously physically present in the United States since August 4, 2024,¹ the effective date of this redesignation of Haiti, before USCIS may grant them TPS. DHS estimates that approximately 309,000 individuals may become newly eligible for TPS under the redesignation of Haiti.

¹ The “continuous physical presence” date is the effective date of the most recent TPS designation of the country, which is either the publication date of the designation announcement in the Federal Register or a later date established by the Secretary. The “continuous residence” date is any date established by the Secretary when a country is designated (or sometimes redesignated) for TPS. See INA sec. 244(b)(2)(A) (effective date of designation); 244(c)(1)(A)(i-ii) (continuous residence and continuous physical presence date requirements); 8 U.S.C. 1254a(b)(2)(A); 1254a(c)(1)(A)(i-ii).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, if it is still valid beyond the date TPS terminates.

When was Haiti designated for TPS?

Haiti was initially designated on the basis of extraordinary and temporary conditions in Haiti that prevented nationals of Haiti from returning in safety.² Following the initial designation, TPS for Haiti was extended and redesignated once from July 23, 2011, through January 22, 2013, based on extraordinary and temporary conditions.³ Thereafter, TPS for Haiti was extended four times based on extraordinary and temporary conditions: (1) from January 23, 2013, through July 22, 2014;⁴ (2) from July 23, 2014, through January 22, 2016;⁵ (3) from January 23, 2016, through July 22, 2017;⁶ and (4) from July 23, 2017, through January 22, 2018.⁷ Subsequently, the Secretary announced the termination of the TPS designation of Haiti effective July 22, 2019.⁸

² See Designation of Haiti for Temporary Protected Status, 75 FR 3476 (Jan. 21, 2010).

³ See Extension and Redesignation of Haiti for Temporary Protected Status, 76 FR 29000 (May 19, 2011).

⁴ See Extension of the Designation of Haiti for Temporary Protected Status, 77 FR 59943 (Oct. 1, 2012).

⁵ See Extension of the Designation of Haiti for Temporary Protected Status, 79 FR 11808 (Mar. 3, 2014).

⁶ See Extension of the Designation of Haiti for Temporary Protected Status, 80 FR 51582 (Aug. 25, 2015).

⁷ See Extension of the Designation of Haiti for Temporary Protected Status, 82 FR 23830 (May 24, 2017).

⁸ See Termination of the Designation of Haiti for Temporary Protected Status, 83 FR 2648 (Jan. 18, 2018).

The termination of Haiti's 2011 TPS designation was challenged in several lawsuits, and court injunctions required DHS to temporarily continue TPS for Haiti pending a final court order.⁹ Secretary Mayorkas newly designated Haiti on the basis of extraordinary and temporary conditions effective August 3, 2021, through February 3, 2023.¹⁰ Thereafter, TPS for Haiti was extended and redesignated effective February 4, 2023, and ending on August 3, 2024.¹¹

⁹ On Dec. 28, 2023, the U.S. District Court for the Northern District of California dismissed Ramos v. Nielsen, 18-cv-01554 (N.D. Cal. Dec. 28, 2023). Bhattarai v. Nielsen, 19-cv-731 (N.D. Cal. Mar. 12, 2019) was consolidated with Ramos in August 2023. The court agreed with the government position that subsequent TPS designations rendered the pending litigation moot.

¹⁰ See Designation of Haiti for Temporary Protected Status, 86 FR 41863 (Aug. 3, 2021).

¹¹ See Extension and Redesignation of Haiti for Temporary Protected Status, 88 FR 5022 (Jan. 26, 2023).

What authority does the Secretary have to extend the designation of Haiti for TPS?

Section 244(b)(1) of the INA, 8 U.S.C. 1254a(b)(1), authorizes the Secretary, after consultation with appropriate agencies of the U.S. Government, to designate a foreign state (or part thereof) for TPS if the Secretary determines that certain country conditions exist.¹² The decision to designate any foreign state (or part thereof) is a discretionary decision, and there is no judicial review of any determination with respect to the designation, termination, or extension of a designation. See INA sec. 244(b)(5)(A), 8 U.S.C. 1254a(b)(5)(A). The Secretary, in their discretion, may then grant TPS to eligible nationals of that foreign state (or individuals having no nationality who last habitually resided in the designated foreign state). See INA sec. 244(a)(1)(A), 8 U.S.C. 1254a(a)(1)(A).

¹² INA section 244(b)(1) ascribes this power to the Attorney General. Congress transferred this authority from the Attorney General to the Secretary of Homeland Security. See Homeland Security Act of 2002, Public Law 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Haiti for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present since the effective date of the most recent designation of the state”) (emphasis added).¹³

¹³ The extension and redesignation of TPS for Haiti is one of several instances in which the Secretary and, before the establishment of DHS, the Attorney General, have simultaneously extended a country's TPS designation and redesignated the country for TPS. See, e.g., Extension and Redesignation of Haiti for Temporary Protected Status, 76 FR 29000 (May 19, 2011); Extension and Re-designation of Temporary Protected Status for Sudan, 69 FR 60168 (Oct. 7, 2004); Extension of Designation and Redesignation of Liberia Under Temporary Protected Status Program, 62 FR 16608 (Apr. 7, 1997).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Haiti will be June 3, 2024. Initial applicants for TPS under this redesignation must also show they have been “continuously physically present” in the United States since August 4, 2024, which is the effective date of the Secretary's redesignation of Haiti. See INA sec. 244(c)(1)(A)(i), 8 U.S.C. 1254a(c)(1)(A)(i). For each initial TPS application filed under the redesignation, USCIS cannot make the final determination of whether the applicant has met the “continuous physical presence” requirement until August 4, 2024, the effective date of this redesignation for Haiti.

USCIS, however, will issue employment authorization documentation, as appropriate, during the registration period in accordance with 8 CFR 244.5(b).

Why is the Secretary extending the TPS designation for Haiti and simultaneously redesignating Haiti for TPS through February 3, 2026?

DHS has reviewed country conditions in Haiti. Based on the review, including input received from Department of State (DoS) and other U.S. Government agencies, the Secretary has determined that an 18-month TPS extension is warranted because the extraordinary and temporary conditions supporting Haiti's TPS designation remain. The Secretary has further determined that redesignating Haiti for TPS under INA section 244(b)(3)(C), 8 U.S.C. 1254a(b)(3)(C) is warranted and is changing the continuous residence and continuous physical presence dates that applicants must meet to be eligible for TPS.

Overview

DHS has conducted a thorough review of country conditions in Haiti. Haiti continues to experience simultaneous economic, security, political, and health crises. Haitian gangs are the primary source of violence and instability in Haiti and pose an increasing threat as they continue to escalate and expand their influence and geographic presence over large portions of metropolitan Port-au-Prince, Haiti's capital, as well as to several of Haiti's ten departments (regional administrative divisions).¹⁴ Since early March 2024, the gangs have also attacked the capital's primary airport and major port terminals, and blocked roads to access the city.¹⁵ An ongoing political impasse has left Haiti without a functioning democratically elected national government and hindered Haiti's ability to respond to the gang-driven violence. The political situation has continued to worsen since the July 2021 assassination of President Jovenel Moise.¹⁶ At the same time, Haiti struggles through a humanitarian crisis, with many citizens having limited access to safety, healthcare, food, water, and economic opportunity. These circumstances continue to make return to Haiti dangerous for Haitian nationals living in the United States.

¹⁴ Edith M. Lederer, Gang violence in Haiti is escalating and spreading with a significant increase in killings, UN says, The Associated Press, Sept. 27, 2023, available at: https://apnews.com/article/haiti-gang-violence-un-report-killings-5d3f7ff272b7303852869dfc67692a23 (last visited Apr. 29, 2024); Haiti: Humanitarian impact of gang violence, ACAPS, June 2, 2023, available at: https://reliefweb.int/report/haiti/acaps-briefing-note-haiti-humanitarian-impact-gang-violence-02-june-2023 (last visited Apr. 29, 2024).

¹⁵ Widlore Mérancourt and Samantha Schmidt, As gangs attack a critical port, `Haiti will go hungry soon', The Washington Post, Mar. 7, 2024, available at: https://www.washingtonpost.com/world/2024/03/07/haiti-gangs-port/ (last visited Apr. 29, 2024).

¹⁶ Clare Ribando Seelke and Karla I. Rios, Haiti: Recent Developments and U.S. Policy, Congressional Research Service (CRS), Sept. 18, 2023, available at: https://sgp.fas.org/crs/row/R47394.pdf (last visited Apr. 29, 2024).

Political Situation

On July 7, 2021, President Jovenel Moïse was assassinated in his private residence in Port-au-Prince. Subsequently, Ariel Henry, whom Moïse had appointed prime minister (PM) days before the assassination, assumed power as head of a new government.¹⁷ In the wake of the assassination, there were ongoing efforts to create a transitional government and eventually hold free and fair elections, but talks repeatedly failed, with some opposition groups demanding the resignation of PM Henry as a precondition for dialogue.¹⁸ On December 21, 2022, representatives of civil society organizations, the private sector, and political groups created a political accord called the “National consensus for an inclusive transition and transparent elections,” which was supported by PM Henry.¹⁹ While dialogue to define a strategic direction for holding elections continued, frustration has grown at the failure to hold elections over the last three years.²⁰ The last national elections in Haiti were held in November 2016. Since then, the terms of 30 senators and 119 members of Haiti's lower legislative chamber have expired, leaving Haiti without an active national legislative body since January 2023.²¹

¹⁷ Human Rights Watch, World Report 2022—Haiti (Jan. 13, 2022), https://www.hrw.org/world-report/2022/country-chapters/haiti (last visited Apr. 29, 2024).

¹⁸ United Nations Integrated Office in Haiti (BINUH)—Report of the Secretary-General, UN Security Council, p. 2, Jan. 15, 2024, available at: https://reliefweb.int/report/haiti/united-nations-integrated-office-haiti-report-secretary-general-s202462-enarruzh (last visited Feb. 26, 2024).

¹⁹ Haiti Libre, Haiti—FLASH: The PM signed a historic consensus for an inclusive transition, Dec. 22, 2022, https://www.haitilibre.com/en/news-38427-haiti-flash-the-pm-signed-a-historic-consensus-for-an-inclusive-transition.html (last visited Apr. 29, 2024).

²⁰ Final report of the Panel of Experts on Haiti, UN Security Council, p. 8, Sept. 15, 2023, available at: https://www.securitycouncilreport.org/un-documents/document/s-2023-674.php (last visited Apr. 29, 2024).

²¹ Becky Sullivan, As its only remaining elected officials depart, Haiti reaches a breaking point, National Public Radio (NPR), Jan. 18, 2023, available at: https://www.npr.org/2023/01/18/1149556481/haiti-last-elected-official-political-crisis (last visited Apr. 29, 2024); see also Camila Domonoske, 14 Months After Elections Began, Haiti Finally Has a President-Elect, National Public Radio (NPR), Jan. 4, 2017, available at: https://www.npr.org/sections/thetwo-way/2017/01/04/508171191/14-months-after-elections-began-haiti-finally-has-a-president-elect (last visited Apr. 29, 2024).

Beginning in mid-January 2024, significant protests erupted throughout Haiti, paralyzing numerous cities.²² The protests were driven by supporters of Guy Philippe, the leader of a 2004 rebellion against former President Jean-Bertrand Aristide in which he masterminded multiple attacks on police stations.²³ Since returning to Haiti from the United States, Philippe has spent his time “shoring up support for his so-called revolution.” ²⁴ Philippe is believed by some to be a destabilizing force in Haiti and the protests have led to the closing of schools, government agencies, and private businesses in cities throughout Haiti.²⁵

²² Supporters of former Haitian rebel leader Guy Philippe launch widespread protests, The Associated Press, Jan. 16, 2024, available at: https://apnews.com/article/haiti-protests-guy-philippe-supporters-d0e749d75b96aee0f01395a580a6dec0 (last visited Apr. 29, 2024).

²³ Id.

²⁴ Frances Robles, An Unlikely New Threat to Haiti's Stability: An Armed Environmental Group, The New York Times, Jan. 25, 2024, available at: https://web.archive.org/web/20240126040146/https://www.nytimes.com/2024/01/25/world/americas/haiti-political-instability-bsap.html (last visited Apr. 29, 2024).

²⁵ Supporters of former Haitian rebel leader Guy Philippe launch widespread protests, The Associated Press, Jan. 16, 2024, available at: https://apnews.com/article/haiti-protests-guy-philippe-supporters-d0e749d75b96aee0f01395a580a6dec0 (last visited Apr. 29, 2024).

PM Henry traveled abroad at the beginning of 2024 for international engagements. During his travel, a series of coordinated gang attacks began against targets in Haiti's capital and beyond, freeing thousands of inmates and closing the main international airport.²⁶ PM Henry has been unable to return to Haiti. On March 6, 2024, Jimmy “Barbecue” Cherizier, the leader of one of Haiti's most powerful gang alliances, the G9, warned that unless PM Henry stepped down, there would be civil war in Haiti.²⁷ In March 2024, Caribbean Community (CARICOM) leaders, with agreement from key Haitian stakeholders, announced that PM Henry would resign once a transitional presidential council was established and an interim leader was selected.²⁸ PM Henry resigned in late April 2024, the day before the swearing in of a 9-member transitional presidential council.²⁹ The council is tasked with, among other duties, selecting an interim prime minister, setting the agenda of a new Cabinet, appointing a provisional electoral commission, and establishing a national security council.³⁰

²⁶ Dánica Coto, Haiti's prime minister is locked out of his country and faces pressure to resign, The Associated Press, Mar. 8, 2024, available at: https://apnews.com/article/haiti-prime-minister-gangs-resign-e583a191a2f800bc63752220a47dec0d (last visited Apr. 29, 2024).

²⁷ Haiti's top gang leader warns of “civil war that will lead to genocide” unless prime minister steps down, CBS News, Mar. 6, 2024, available at: https://www.cbsnews.com/news/haiti-gang-leader-jimmy-cherizier-warns-civil-war-genocide/ (last visited Apr. 29, 2024).

²⁸ Widlore Mérancourt, Samantha Schmidt, and Amanda Coletta, Haitian prime minister says he'll resign, clearing way for new government, The Washington Post, Mar. 12, 2024, available at: https://www.washingtonpost.com/world/2024/03/12/haitian-prime-minister-resign-clearing-way-new-government/ (last visited Apr. 29, 2024).

²⁹ Dánica Coto, Ariel Henry resigns as prime minister of Haiti, wracked by gang violence, paving the way for new government to take power, PBS News Hour, Apr. 25, 2024, available at: https://www.pbs.org/newshour/world/ariel-henry-resigns-as-prime-minister-of-haiti-wracked-by-gang-violence-paving-the-way-for-new-government-to-take-power (last visited May 13, 2024); Dánica Coto, Haiti's new transitional council faces urgent demands for solutions amid gang violence, PBS News Hour, Apr. 26, 2024, available at: https://www.pbs.org/newshour/world/haitis-new-transitional-council-faces-urgent-demands-for-solutions-amid-gang-violence (last visited May 13, 2024).

³⁰ Dánica Coto, Haiti's new transitional council faces urgent demands for solutions amid gang violence, PBS News Hour, Apr. 26, 2024, available at: https://www.pbs.org/newshour/world/haitis-new-transitional-council-faces-urgent-demands-for-solutions-amid-gang-violence (last visited May 13, 2024).

The Haitian government has long been accused of corruption and ineptitude. “Politicians and the business elite in Haiti have historically relied on gangs to obtain and exert power, but the [gangs] have grown more autonomous in recent years.” ³¹ An April 2021 report by Harvard Law School's International Human Rights Clinic alleged that the Moïse government funneled money, weapons, uniforms, and vehicles to gangs like the G9 in exchange for them repressing political opponents, often brutally, and maintaining the peace in poorer neighborhoods.³² A July 2022 International Crisis Group report stated, “[C]ollusion between state security forces and illegal armed groups has flourished in the absence of political will to hold corrupt officers accountable and because of the efforts of those in power to deploy the police (as well as gangs) to serve their personal interests.” ³³

³¹ Diego Da Rin, New Gang Battle Lines Scar Haiti as Political Deadlock Persists, International Crisis Group (July 27, 2022), https://www.crisisgroup.org/latin-america-caribbean/haiti/new-gang-battle-lines-scar-haiti-political-deadlock-persists (last visited Apr. 29, 2024).

³² Harvard Law School International Human Rights Clinic, Killing with Impunity: State-Sanctioned Massacres in Haiti (April 2021), http://hrp.law.harvard.edu/wp-content/uploads/2021/04/Killing_With_Impunity-1.pdf (last visited Apr. 29, 2024).

³³ Diego Da Rin, New Gang Battle Lines Scar Haiti as Political Deadlock Persists, International Crisis Group (July 27, 2022), https://www.crisisgroup.org/latin-america-caribbean/haiti/new-gang-battle-lines-scar-haiti-political-deadlock-persists (last visited Apr. 29, 2024).

Allegations of corruption against members of Haiti's government are prevalent and its “justice system is plagued by insecurity, corruption, strikes, and political interference.” ³⁴ A judge has accused more than 30 high-ranking officials, including former presidents and prime ministers, of government corruption and warrants have been issued for their arrest.³⁵ As of January 2024, none of the accused had been arrested.³⁶ Haitian government officials accused of criminal misconduct commonly ignore arrest warrants and requests for questioning.³⁷

³⁴ World Report 2024—Haiti, Human Rights Watch, Jan. 11, 2024, available at: https://www.ecoi.net/en/document/2103219.html (last visited Apr. 29, 2024).

³⁵ Judge in Haiti issues arrest warrants accusing former presidents and prime ministers of corruption, The Associated Press, Jan. 8, 2024, available at: https://apnews.com/article/haiti-corruption-arrest-warrant-presidents-prime-ministers-1e2c1d0530cbca235e33ada3009acabf (last visited Apr. 29, 2024).

³⁶ Id.

³⁷ Id.

Security Situation

Since President Moïse's assassination, Haiti has experienced a sharp deterioration in an already fragile security situation. Gang violence and kidnappings have spiked throughout the country, particularly in Port-au-Prince. In the first three months of 2024, gang violence killed or injured more than 2,500 people.³⁸ The violence heavily affects three of Haiti's ten departments, with gangs having an established presence in at least six departments.³⁹ Gang violence continues to escalate and expand outside the capital and other major cities including Gonaïves and Cap-Haïtien. The Ouest Department, where Port-au-Prince is located, suffers from extreme insecurity from armed gang violence against civilians, police, and infrastructure alike.⁴⁰ Neighborhoods in Port-au-Prince that were previously relatively safe from the gangs have recently seen an alarming expansion of gang influence, including in Carrefour-Feuilles, Solino, Bon Repos, Mariani, and Léogâne.⁴¹ A September 2023 final report from a panel of experts from the United Nations found that gangs controlled or influenced over 80 percent of the Port-au-Prince metropolitan area, while they committed incursions in the remaining 20 percent in which they carried out murders, kidnappings, robberies, and various other crimes.⁴² In early March 2024, gangs attacked police stations and stormed two prisons in and around Port-au-Prince, allowing more than 4,700 inmates to escape.⁴³ Haiti's government declared a 72-hour state of emergency.⁴⁴ Following the initial attacks, the gangs blocked the roads leading to Port-au-Prince and attacked the city's main airport.⁴⁵ On March 6, the gangs attacked the primary port terminal, forcing the terminal to close indefinitely, threatening Haiti's food supply and cutting off deliveries of medical supplies.⁴⁶ In response, the Haitian government extended the state of emergency until April 3 in Port-au-Prince and Haiti's Ouest Department.⁴⁷ Due to the escalating violence in neighborhoods surrounding the U.S. Embassy in Haiti and the attack on the airport, the U.S. military evacuated all non-essential Embassy personnel by airlift on Saturday, March 9, and Sunday, March 10.⁴⁸ The coordinated gang attacks that began on February 29 have displaced over 15,000 people from their homes in Port-au-Prince.⁴⁹

³⁸ Sarah Morland, Haiti's death toll rises as international support lags, UN report says, Reuters, Apr. 19, 2024, available at: https://www.reuters.com/world/americas/haitis-death-toll-rises-international-support-lags-un-report-says-2024-04-19/ (last visited May 13, 2024).

³⁹ Haiti: Humanitarian impact of gang violence, ACAPS, June 2, 2023, available at: https://reliefweb.int/report/haiti/acaps-briefing-note-haiti-humanitarian-impact-gang-violence-02-june-2023 (last visited Apr. 29, 2024).

⁴⁰ United Nations Integrated Office in Haiti (BINUH)—Report of the Secretary-General, UN Security Council, p.3, Jan. 15, 2024, available at: https://reliefweb.int/report/haiti/united-nations-integrated-office-haiti-report-secretary-general-s202462-enarruzh (last visited Apr. 29, 2024).

⁴¹ Id.

⁴² Final report of the Panel of Experts on Haiti, UN Security Council, p.14, Sept. 15, 2023, available at: https://www.securitycouncilreport.org/un-documents/document/s-2023-674.php (last visited Apr. 29, 2024).

⁴³ Gangs in Haiti try to seize control of main airport as thousands escape prisons: “Massacring people indiscriminately,” CBS News, Mar. 5, 2024, available at: https://www.cbsnews.com/news/haiti-gangs-try-to-seize-airport-thousands-inmates-escape-prisons-state-of-emergency/ (last visited Apr. 29, 2024).

⁴⁴ Henri Astier and Gianluca Avagnina, Haiti violence: Haiti gangs demand PM resign after mass jailbreak, BBC, March 4, 2024, available at: bbc.com/news/world-latin-america-68462851 (last visited Apr. 29, 2024).

⁴⁵ Widlore Mérancourt and Samantha Schmidt, As gangs attack a critical port, `Haiti will go hungry soon', The Washington Post, Mar. 7, 2024, available at: https://www.washingtonpost.com/world/2024/03/07/haiti-gangs-port/ (last visited Apr. 29, 2024).

⁴⁶ Id.

⁴⁷ Harold Isaac and Sarah Morland, Haiti healthcare near collapse, says UN, as state of emergency extended, Reuters, Mar. 8, 2024, available at: https://www.reuters.com/world/americas/haiti-extends-state-emergency-pm-absent-2024-03-07/ (last visited Apr. 29, 2024).

⁴⁸ Emily Mae Czachor, U.S. military airlifts embassy staff from Port-au-Prince amid Haiti's escalating gang violence, CBS News, Mar. 11, 2024, available at: https://www.cbsnews.com/news/us-military-airlifts-evacuation-staff-embassy-port-au-prince-haiti-gang-violence/ (last visited Apr. 29, 2024).

⁴⁹ Evans Sanon and Dánica Coto, Violence is battering Haiti's fragile economy and causing food and water shortages, The Associated Press, Mar. 9, 2024, available at: https://apnews.com/article/haiti-violence-gangs-food-economy-092a20f037b48a8e1837a4e6424cf571 (last visited Apr. 29, 2024).

There are approximately 200 groups associated with seven major gang coalitions across Haiti, and the majority of armed groups operate in metropolitan Port-au-Prince.⁵⁰ “Many of Haiti's gangs have coalesced around two main alliances:” the G9 and the GPèp.⁵¹ “Gangs have decapitated opponents in public, burnt corpses on the street, set fire to houses and used sexual violence to intimidate residents out of collaborating with their rivals.” ⁵² Many of these groups employ heavy armaments in their activities, and they frequently use handguns and assault weapons.⁵³

⁵⁰ United Nations Integrated Office in Haiti (BINUH)—Report of the Secretary-General, UN Security Council, p.6, Apr. 14, 2023, available at: https://binuh.unmissions.org/sites/default/files/sg_report_on_binuh_14_april_2023.pdf (last visited Apr. 29, 2024).

⁵¹ Diego Da Rin, New Gang Battle Lines Scar Haiti as Political Deadlock Persists, International Crisis Group (July 27, 2022), https://www.crisisgroup.org/latin-america-caribbean/haiti/new-gang-battle-lines-scar-haiti-political-deadlock-persists (last visited Apr. 29, 2024).

⁵² Id.

⁵³ United Nations Integrated Office in Haiti (BINUH)—Report of the Secretary-General, UN Security Council, p.6, Apr. 14, 2023, available at: https://binuh.unmissions.org/sites/default/files/sg_report_on_binuh_14_april_2023.pdf (last visited Apr. 29, 2024).

Reported homicides increased significantly in 2023, by 119.4 percent from 2022, while reported kidnappings also increased significantly in 2023, by 83 percent from 2022.⁵⁴ Since the start of 2024, gangs have launched assaults against entire neighborhoods in Port-au-Prince. Automatic gunfire and burning barricades trapped residents of the Solino neighborhood in their homes in mid-January 2024.⁵⁵ The Solino neighborhood, home to many police officers, is regarded as a gateway to access other neighborhoods such as Canapé Vert that have remained relatively safe to this point.⁵⁶ Similar attacks began in the Gabelliste neighborhood in early January 2024.⁵⁷ Armed attacks in the neighborhoods of Carrefour, Cité Soleil, and Tabarre that began on February 5 have displaced almost 10,000 people from those areas.⁵⁸

⁵⁴ Id. at p.3.

⁵⁵ Haiti: residents trapped as armed gangs target key pocket of Port-au-Prince, The Guardian, Jan. 18, 2024, available at: https://www.theguardian.com/world/2024/jan/18/haiti-residents-trapped-port-au-prince-gangs (last visited Apr. 29, 2024).

⁵⁶ `It's very scary now:' Fear grips Haiti's Port-au-Prince amid gang violence, Al Jazeera, Jan. 19, 2024, available at: https://www.aljazeera.com/gallery/2024/1/19/fear-grips-haitis-port-au-prince-amid-gang-violence (last visited Apr. 29, 2024).

⁵⁷ United Nations—International Organization for Migration, Haiti—Emergency Tracking Tool—Dashboard #34, Displacement following attacks in Solino and Gabelliste—Municipality of Port-au-Prince, (Jan. 18, 2024), https://dtm.iom.int/reports/haiti-emergency-tracking-tool-34-displacement-following-attacks-solino-and-gabelliste (last visited Apr. 29, 2024).

⁵⁸ United Nations—International Organization for Migration, Haiti—Emergency Tracking Tool—Dashboard #37.1, Updates on displacement following attacks in Carrefour, Cité Soleil and Tabarre (Feb. 13, 2024), https://dtm.iom.int/reports/haiti-emergency-tracking-tool-371-updates-displacement-following-attacks-carrefour-cite?close=true (last visited Apr. 29, 2024).

In response to the gang violence and escalating insecurity plaguing much of Haiti, as well as the lack of prosecutions and convictions relating to the violence leading to a sense of impunity, a movement known as Bwa Kale began in April 2023.⁵⁹ This movement is driven by anti-gang vigilantes who have armed themselves with improvised weapons and hunted down and killed suspected gang members, often burning their bodies in the aftermath.⁶⁰

⁵⁹ Final report of the Panel of Experts on Haiti, UN Security Council, p. 3, Sept. 15, 2023, available at: https://www.securitycouncilreport.org/un-documents/document/s-2023-674.php (last visited Apr. 29, 2024).

⁶⁰ Id.; Henry Shuldiner, Haiti's Anti-Gang Vigilantes May Pose Future Criminal Threat, InSight Crime, May 9, 2023, available at: https://insightcrime.org/news/bwa-kale-vigilante-movement-challenging-haitis-gangs/ (last visited Apr. 29, 2024).

Vigilante groups had been active in Haiti prior to April 2023, but a rumored large-scale attack to be carried out by gang members in Port-au-Prince led to a major incident involving vigilantes. Police intercepted a mini-bus of suspected gang members carrying weapons in the Canapé Vert neighborhood of Port-au-Prince.⁶¹ A large crowd surrounded the mini-bus, pelting the suspected gang members with stones and setting several of them on fire while they were still alive.⁶² Thirteen people were killed.⁶³ Footage of the attack spread widely on social media and inspired additional attacks.⁶⁴ Lynchings were reported in Port-au-Prince in the following days.⁶⁵ Increasing numbers of people joined vigilante groups to defend themselves and their neighborhoods from gang attacks.⁶⁶ In April 2023 alone, 164 cases of mob killings and lynchings of suspected gang members were reported.⁶⁷

⁶¹ Diego Da Rin, Haitians Turn to Mob Justice as the Gang Threat Festers, International Crisis Group, Jul. 3, 2023, available at: https://www.crisisgroup.org/latin-america-caribbean/haiti/haitians-turn-mob-justice-gang-threat-festers (last visited Apr. 29, 2024).

⁶² Id.

⁶³ Id.

⁶⁴ Id.

⁶⁵ Id.

⁶⁶ Id.

⁶⁷ Id.

Reports suggest collaboration between some vigilante groups and Haitian security forces, and that current or former Haitian police officers have participated in the vigilante violence.⁶⁸ At times, they may have also shared their weapons with the vigilante groups.⁶⁹ In response, the gangs have mounted their own movement to retaliate against the vigilante groups, called Zam Pale.⁷⁰ The offensive by the various vigilante groups lasted only a few months before gangs resumed their push into new territory. However, some vigilante groups remain active.⁷¹

⁶⁸ Id.

⁶⁹ Id.

⁷⁰ Final report of the Panel of Experts on Haiti, UN Security Council, p. 17, Sept. 15, 2023, available at: https://www.securitycouncilreport.org/un-documents/document/s-2023-674.php (last visited Apr. 29, 2024).

⁷¹ Haiti's Gangs: Can a Foreign Mission Break Their Stranglehold?, International Crisis Group, Jan. 5, 2024, available at: https://www.crisisgroup.org/latin-america-caribbean/haiti/b49-haitis-gangs-can-foreign-mission-break-their-stranglehold (last visited Apr. 29, 2024).

Haitian law enforcement has been unable to cope with the level of gang violence due to a failure to expand the size of the Haitian National Police or sufficiently improve its operational capabilities.⁷² The gangs, meanwhile, have expanded their arsenals and upgraded their firepower, hindering the Haitian National Police's ability to effectively fight them.⁷³ According to remarks delivered in April 2023 by the UN Special Representative of the Secretary-General for Haiti, María Isabel Salvador, the Haitian National Police are down from 14,772 personnel to about 13,200 personnel of whom only approximately 9,000 are police officers. However, only 3,500 police officers are on active duty throughout the entire country at any one time.⁷⁴ In just the first half of 2023, gang members attacked multiple police stations, murdered 29 police officers, and posted grisly pictures of the deceased on social media.⁷⁵

⁷² Diego Da Rin, Haitians Turn to Mob Justice as the Gang Threat Festers, International Crisis Group, Jul. 3, 2023, available at: https://www.crisisgroup.org/latin-america-caribbean/haiti/haitians-turn-mob-justice-gang-threat-festers (last visited Apr. 29, 2024).

⁷³ Final report of the Panel of Experts on Haiti, UN Security Council, p. 3, Sept. 15, 2023, available at: https://www.securitycouncilreport.org/un-documents/document/s-2023-674.php (last visited Apr. 29, 2024).

⁷⁴ María Isabel Salvador (BINUH) on the question concerning Haiti—Security Council, 9311th meeting (Apr. 26, 2023), available at: https://webtv.un.org/en/asset/k1d/k1dtg6n2jc (last visited Apr. 29, 2024).

⁷⁵ Diego Da Rin, Haitians Turn to Mob Justice as the Gang Threat Festers, International Crisis Group, Jul. 3, 2023, available at: https://www.crisisgroup.org/latin-america-caribbean/haiti/haitians-turn-mob-justice-gang-threat-festers (last visited Apr. 29, 2024).

Haiti's government requested international help in late 2022 to aid the Haitian National Police in combatting gang violence.⁷⁶ A Multinational Security Support (MSS) mission was authorized by the United Nations Security Council in United Nations Security Council Resolution 2699.⁷⁷ The mandate for the MSS mission is to provide operational support to the Haitian National Police, including through capacity building, and to support the Haitian National Police in providing security for critical infrastructure.⁷⁸ However, to date, the multinational armed force has not deployed to Haiti.⁷⁹

⁷⁶ Reuters, Explainer: Why did the UN vote to send an international force to Haiti? (Oct. 2, 2023), available at: https://www.reuters.com/world/americas/why-did-un-vote-send-an-international-force-haiti-2023-10-02/ (last visited Apr. 29, 2024).

⁷⁷ United Nations Security Council, Resolution 2699, Oct. 2, 2023, available at: https://digitallibrary.un.org/record/4022890?ln=en&v=pdf (last visited Apr. 29, 2024).

⁷⁸ Ambassador Robert Wood, Remarks at a UN Security Council Briefing on Haiti, United States Mission to the United Nations, Apr. 22, 2024, available at: https://usun.usmission.gov/remarks-at-a-un-security-council-briefing-on-haiti-11/#:~:text=This%20mission%20seeks%20to%20build,and%20communities%20to%20build%20trust. (last visited Apr. 29, 2024).

⁷⁹ What's going on with the planned international mission to Haiti?, Reuters, Apr. 26, 2024, available at: https://www.reuters.com/world/americas/haitis-prime-minister-called-international-security-support-who-answered-2024-03-05/ (last visited Apr. 29, 2024).

Environmental Situation

Several recent environmental disasters have contributed to the extraordinary and temporary conditions in Haiti. On August 14, 2021, a 7.2 magnitude earthquake hit the southern region of Haiti, killing more than 2,200 people, injuring 12,700 people, destroying 130,000 homes, and leaving thousands of people in immediate need of aid.⁸⁰ Only a few days later, Tropical Storm Grace resulted in floods and landslides in the same departments affected by the earthquake, in addition to Sud-Est.⁸¹ Some healthcare facilities have still not been rebuilt since the August 2021 earthquake.⁸² Worldwide, “Haiti remains one of the most vulnerable countries” to natural disasters, predominately including hurricanes, floods, and earthquakes.⁸³ Over 96 percent of Haitians are vulnerable to these disasters.⁸⁴ Widespread deforestation has left the country especially prone to flooding and mudslides, and Haiti being situated on a geographical fault line makes it more susceptible to natural disasters in general as compared to the majority of other Caribbean countries.⁸⁵ In 2023, smaller but still significant storms and flooding destroyed over 13,000 homes and cut off roads between communities.⁸⁶ In June 2023, a 4.4 magnitude earthquake and 5.5 magnitude earthquake hit Haiti's west coast only two days apart causing the deaths of at least four people while destroying homes, blocking roads, and overwhelming healthcare facilities.⁸⁷

⁸⁰ UNICEF, Massive earthquake leaves devastation in Haiti (last updated Oct. 4, 2021), https://www.unicef.org/emergencies/massivEdite-earthquake-devastation-haiti (last visited Apr. 29, 2024).

⁸¹ FAO, Haiti: Urgent call for funding (September 2021-May 2022)—Emergency response to households affected by the earthquake and Tropical Storm Grace (Sept. 10, 2021), https://reliefweb.int/report/haiti/haiti-urgent-call-funding-september-2021-may-2022-emergency-response-households (last visited Apr. 29, 2024).

⁸² Luke Taylor, `We have no time to heal': floods followed by earthquake heap more trauma on Haiti, The Guardian, available at: https://www.theguardian.com/global-development/2023/jul/11/we-have-no-time-to-heal-floods-followed-by-earthquake-heap-more-trauma-on-haiti (last visited Apr. 29, 2024).

⁸³ The World Bank in Haiti, The World Bank, Oct. 26, 2023, available at: https://www.worldbank.org/en/country/haiti/overview (last visited Apr. 29, 2024).

⁸⁴ The World Bank in Haiti, The World Bank, Oct. 26, 2023, available at: https://www.worldbank.org/en/country/haiti/overview (last visited Apr. 29, 2024).

⁸⁵ Council on Foreign Relations, Haiti's Troubled Path to Development (Sept. 17, 2021), https://www.cfr.org/backgrounder/haitis-troubled-path-development (last visited Apr. 29, 2024).

⁸⁶ Haiti—Severe weather, floods and landslides, European Commission's Directorate-General for European Civil Protection and Humanitarian Aid Operations, Jun. 6, 2023, available at: https://reliefweb.int/report/haiti/haiti-severe-weather-floods-and-landslides-haiti-civil-protection-noaa-cpc-echo-daily-flash-06-june-2023 (last visited Apr. 29, 2024).

⁸⁷ Luke Taylor, `We have no time to heal': floods followed by earthquake heap more trauma on Haiti, The Guardian, available at: https://www.theguardian.com/global-development/2023/jul/11/we-have-no-time-to-heal-floods-followed-by-earthquake-heap-more-trauma-on-haiti (last visited Apr. 29, 2024). UN, Haiti: UN deeply saddened as latest earthquake kills three, in wake of floods, available at https://news.un.org/en/story/2023/06/1137407 (last visited Apr. 29, 2024).

Humanitarian Situation

Haiti has one of the highest levels of chronic food insecurity in the world with more than half of its total population chronically food insecure and 22 percent of children chronically malnourished, according to the World Food Programme.⁸⁸ As of September 2023, the total number of people in acute food insecurity stood at 4.35 million people, including 1.4 million people in the “emergency” phase on the World Food Program's (WFP) Integrated Food Security Classification Index.⁸⁹

⁸⁸ Haiti Country Brief, World Food Programme (WFP), Nov. 2023, available at: https://docs.wfp.org/api/documents/WFP-0000155417/download/?_ga=2.249432451.544473126.1706236500-581114880.1706236500 (last visited Apr. 29, 2024).

⁸⁹ Haiti Country Brief, World Food Programme (WFP), Nov. 2023, available at: https://docs.wfp.org/api/documents/WFP-0000155417/download/?_ga=2.249432451.544473126.1706236500-581114880.1706236500 (last visited Apr. 29, 2024).

A 2024 BINUH report found that the security crisis has led to disruptions in the market supply chain, contributing to the high level of food insecurity.⁹⁰ Gangs that control the main roads between cities and departments charge increasingly high fees to allow vehicles transporting food, as well as other goods, to pass unharmed.⁹¹ The global rise in food prices, depreciation of the Haitian currency, and other restrictions on internal movement of goods in Haiti have, along with the security crisis, contributed to the high food prices and general shortage of food.⁹²

⁹⁰ United Nations Integrated Office in Haiti—Report of the Secretary-General, UN Security Council, p.12, Jan. 15, 2024, available at: https://reliefweb.int/report/haiti/united-nations-integrated-office-haiti-report-secretary-general-s202462-enarruzh (last visited Apr. 29, 2024).

⁹¹ Id.

⁹² Tanvi Nagpal, No Easy Solutions: Understanding the Scale of the Humanitarian Crisis in Haiti, Center for Strategic & International Studies (CSIS), Dec. 12, 2023, https://www.csis.org/analysis/no-easy-solutions-understanding-scale-humanitarian-crisis-haiti (last visited Apr. 29, 2024).

The Pan-American Health Organization and the Haitian government reported a new cholera outbreak in October 2022.⁹³ As of November 15, 2022 there had been 8,146 hospitalized suspected cases and 821 confirmed cases of cholera, resulting in 188 deaths.⁹⁴ As of September 2023, the World Health Organization found that a continued lack of access to clean water sources contributed to the spread of the disease.⁹⁵ As of January 2024, an estimated 73,000 Haitians were confirmed or suspected to have cholera across all 10 departments of Haiti.⁹⁶ Human Rights Watch also estimated that as of January 2024, only 55 percent of Haitian households could access safe drinking water while two-thirds of Haitians had limited or no access to sanitation services.⁹⁷ The recent closure of some hospitals and reduced availability of ambulance services, in addition to the generally poor health condition of the entire population (due, at least in part, to significant malnutrition), has led to more significant likelihood of severe disease and death for those Haitians who contract cholera.⁹⁸

⁹³ Widlore Mérancourt, Kelly Kasulis Cho, and Amanda Coletta, The Washington Post, Cholera Resurfaces in Haiti as gangs hinder access to water, hospitals, Oct. 3, 2022, https://www.washingtonpost.com/world/2022/10/03/haiti-cholera-gang-violence-water/ (last visited Apr. 29, 2024).

⁹⁴ Pan American Health Organization, Cholera Outbreak in Hispaniola, Situation Report #6, Nov. 17, 2022, https://www.paho.org/en/documents/cholera-outbreak-hispaniola-2022-situation-report-6 (last visited Apr. 29, 2024).

⁹⁵ Haïti Health Cluster: Navigating a Multifaceted Humanitarian Crisis, World Health Organization (WHO), Sept. 5, 2023, available at: https://healthcluster.who.int/newsroom/news/item/05-09-2023-haiti-health-cluster-navigating-a-multifaceted-humanitarian-crisis (last visited Apr. 29, 2024).

⁹⁶ United Nations Integrated Office in Haiti—Report of the Secretary-General, UN Security Council, p.13, Jan. 15, 2024, available at: https://reliefweb.int/report/haiti/united-nations-integrated-office-haiti-report-secretary-general-s202462-enarruzh (last visited Apr. 29, 2024).

⁹⁷ World Report 2024—Haiti, Human Rights Watch, Jan. 11, 2024, available at: https://www.ecoi.net/en/document/2103219.html (last visited Apr. 29, 2024).

⁹⁸ Haiti | Earthquake and Cholera Outbreak—Emergency Appeal No. MDRHT018—Operation update #6, International Federation of Red Cross and Red Crescent Societies (IFRC), Nov. 3, 2023, available at: https://reliefweb.int/report/haiti/haiti-earthquake-and-cholera-outbreak-emergency-appeal-no-mdrht018-operation-update-6 (last visited Apr. 29, 2024).

Haiti lacks the healthcare resources to effectively respond to the cholera outbreak. Gangs control or have influence over almost half of all hospitals in the Port-au-Prince metropolitan area, with attacks on patients, staff, and facilities forcing some to close.⁹⁹ Shootings, robberies, and kidnappings of doctors and nurses have been reported.¹⁰⁰ For example, in a June 2023 attack on a hospital in Ouest department, six hospital security personnel were kidnapped and “vehicles, a generator, solar panels, and various medical supplies and equipment” were stolen.¹⁰¹ After an attack on a convoy of ambulances for Medecins Sans Frontiers (MSF) in December 2023 that killed a patient, MSF suspended their work at the Turgeau emergency center.¹⁰² Human Rights Watch stated that it is estimated that three-quarters of Haiti's healthcare facilities lack adequate medical supplies and sufficient trained personnel as the security crisis has led to a mass exodus of health workers in recent years.¹⁰³

⁹⁹ Final report of the Panel of Experts on Haiti, UN Security Council, p. 145, Sept. 15, 2023, available at: https://www.securitycouncilreport.org/un-documents/document/s-2023-674.php (last visited Apr. 29, 2024).

¹⁰⁰ Id.

¹⁰¹ Id.

¹⁰² MSF suspends work in Haiti emergency centre after armed group kills patient, Al Jazeera, Dec. 15, 2023, available at: https://www.aljazeera.com/news/2023/12/15/msf-suspends-work-at-hatian-hospital-after-armed-group-kill-patient (last visited Apr. 29, 2024).

¹⁰³ World Report 2024—Haiti, Human Rights Watch, Jan. 11, 2024, available at: https://www.ecoi.net/en/document/2103219.html (last visited Apr. 29, 2024).

Economic Situation

Amidst the political, security, and environmental crises, Haiti's economy has been decimated and threatens the future of the country. Many children are not able to attend school.¹⁰⁴ Haiti is one of the poorest countries in the world, and it remains the poorest in Latin America and the Caribbean.¹⁰⁵ The economy has contracted for five straight years, from 2019 through 2023.¹⁰⁶ With prices increasing 53 percent year-on-year as of early 2023, inflation in Haiti is among the ten highest in the world.¹⁰⁷ Previous gains in the reduction of poverty have been undone with two-thirds of households reporting a reduction in their income in March 2023.¹⁰⁸ On the UN's Human Development Index,¹⁰⁹ Haiti ranked 158 out of 191 countries in 2022.¹¹⁰

¹⁰⁴ Final report of the Panel of Experts on Haiti, UN Security Council, pp. 2-3, Sept. 15, 2023, available at: https://www.securitycouncilreport.org/un-documents/document/s-2023-674.php (last visited Apr. 29, 2024).

¹⁰⁵ World Bank, The World Bank in Haiti Overview (last updated Oct. 26, 2023), https://www.worldbank.org/en/country/haiti/overview (last visited Apr. 29, 2024).

¹⁰⁶ Haiti—Recession: Haiti's economy in free fall, −10.5% of GDP in total over 5 years, Haiti Libre, Jan. 3, 2024, available at: https://www.haitilibre.com/en/news-41354-haiti-recession-haiti-s-economy-in-free-fall105-of-gdp-in-total-over-5-years.html (last visited Apr. 29, 2024).

¹⁰⁷ Johnny Wood, These countries have been the hardest hit by food price inflation, World Economic Forum, Feb. 21, 2023, available at: https://www.weforum.org/agenda/2023/02/countries-hit-by-food-prices-inflation-cost-of-living-crisis/ (last visited Apr. 29, 2024).

¹⁰⁸ World Bank, The World Bank in Haiti Overview (last updated Oct. 26, 2023), https://www.worldbank.org/en/country/haiti/overview (last visited Apr. 29, 2024).

¹⁰⁹ The Human Development Index (HDI) is a summary measure of average achievement in key dimensions of human development: a long and healthy life, being knowledgeable and have a decent standard of living. The latest 2024 HDI report contains data for 2022. See UN Development Programme (UNDP), Human Development Index (HDI) (last visited Apr. 29, 2024), https://hdr.undp.org/data-center/human-development-index#/indicies/HDI.

¹¹⁰ World Bank, The World Bank in Haiti Overview (last updated Oct. 26, 2023), https://www.worldbank.org/en/country/haiti/overview (last visited Apr. 29, 2024); UNDP, Human Development Index (HDI) (last visited Apr. 29, 2024), https://hdr.undp.org/data-center/human-development-index#/indicies/HDI.

In summary, Haiti is experiencing extraordinary and temporary conditions resulting from grave insecurity and gang crime, as well as socio-economic and humanitarian conditions, including those resulting from environmental disasters aggravating food insecurity.

Based on this review and after consultation with appropriate U.S. Government agencies, the Secretary has determined that:

• The conditions supporting Haiti's designation for TPS continue to be met. See INA sec. 244(b)(3)(A) and (C), 8 U.S.C. 1254a(b)(3)(A) and (C).

• There continue to be extraordinary and temporary conditions in Haiti that prevent Haitian nationals (or individuals having no nationality who last habitually resided in Haiti) from returning to Haiti in safety, and it is not contrary to the national interest of the United States to permit Haitian TPS beneficiaries to remain in the United States temporarily. See INA sec. 244(b)(1)(C), 8 U.S.C. 1254a(b)(1)(C).

• The designation of Haiti for TPS should be extended for an 18-month period, beginning on August 4, 2024, and ending on February 3, 2026. See INA sec. 244(b)(3)(C), 8 U.S.C. 1254a(b)(3)(C).

• Due to the conditions described above, Haiti should be simultaneously extended and redesignated for TPS beginning on August 4, 2024, and ending on February 3, 2026. See INA sec. 244(b)(1)(C) and (b)(2), 8 U.S.C. 1254a(b)(1)(C) and (b)(2).

• For the redesignation, the Secretary has determined that TPS applicants must demonstrate that they have continuously resided in the United States since June 3, 2024.

• Initial TPS applicants under the redesignation must demonstrate that they have been continuously physically present in the United States since August 4, 2024, the effective date of the redesignation of Haiti for TPS.

• There are approximately 214,000 current Haiti TPS beneficiaries who are eligible to re-register for TPS under the extension.

It is estimated that approximately 309,000 additional individuals may be eligible for TPS under the redesignation of Haiti. This population includes Haitian nationals in the United States in nonimmigrant status or without immigration status.

Notice of the Designation of Haiti for TPS

By the authority vested in me as Secretary under INA section 244, 8 U.S.C. 1254a, I have determined, after consultation with the appropriate U.S. Government agencies, the statutory conditions supporting Haiti's designation for TPS on the basis of extraordinary and temporary conditions are met, and it is not contrary to the national interest of the United States to allow Haitian TPS beneficiaries to remain in the United States temporarily. See INA sec. 244(b)(1)(C) and (b)(2), 8 U.S.C. 1254a(b)(1)(C) and (b)(2). On the basis of this determination, I am simultaneously extending the existing designation of Haiti for TPS for 18 months, beginning on August 4, 2024, and ending on February 3, 2026, and redesignating Haiti for TPS for the same 18-month period. See INA sec. 244(b)(1) and (b)(2); 8 U.S.C. 1254a(b)(1), and (b)(2).

Alejandro N. Mayorkas,
Secretary, U.S. Department of Homeland Security.

Eligibility and Employment Authorization for TPS

Required Application Forms and Application Fees To Register or Re-Register for TPS

To register or re-register for TPS based on the designation of Haiti, you must submit a Form I-821. If you are submitting an initial TPS application, you must pay the application fee for Form I-821 (or request a fee waiver, which you may submit on Form I-912, Request for Fee Waiver). If you are filing an application to re-register for TPS, you do not need to pay the application fee. Whether you are registering as an initial applicant or re-registering, you are required to pay the biometric services fee. If you cannot pay the biometric services fee, you may ask USCIS to waive the fee. Please see additional information under the “Biometric Services Fee” section of this notice.

TPS beneficiaries are eligible for an Employment Authorization Document (EAD), which proves their authorization to work in the United States. You are not required to submit Form I-765 or have an EAD to be granted TPS, but see below for more information if you want an EAD to use as proof that you can work in the United States.

Individuals who have a Haiti TPS application (Form I-821) that was still pending as of July 1, 2024 do not need to file the application again. If USCIS approves an individual's Form I-821, USCIS will grant the individual TPS through February 3, 2026.

For more information on the application forms and fees for TPS, please visit the USCIS TPS web page at https://www.uscis.gov/tps. Fees for the Form I-821, the Form I-765, and biometric services are also described in 8 CFR 106.2 and the fee waiver-related regulations in 8 CFR 106.3. In addition, USCIS Form G-1055, Fee Schedule, provides the current fees required for the Form I-821 and Form I-765 for both initial TPS applicants and existing TPS beneficiaries who are re-registering.

How can TPS beneficiaries obtain an Employment Authorization Document (EAD)?

Everyone must provide their employer with documentation showing that they have the legal right to work in the United States. TPS beneficiaries are eligible to obtain an EAD, which proves their legal right to work. If you want to obtain an EAD, you must file Form I-765 and pay the Form I-765 fee (or request a fee waiver, which you may submit on Form I-912). TPS applicants may file this form with their TPS application, or separately later, if their TPS application is still pending or has been approved.

Beneficiaries with a Haiti TPS-related Form I-765 that was still pending as of July 1, 2024 do not need to file the application again. If USCIS approves a pending TPS-related Form I-765, USCIS will issue the individual a new EAD that will be valid through February 3, 2026.

Refiling an Initial TPS Registration Application After Receiving a Denial of a Fee Waiver Request

If USCIS denies your fee waiver request, you can resubmit your TPS application. The fee waiver denial notice will contain specific instructions about resubmitting your application.

Filing Information

USCIS offers the option to applicants for TPS to file Form I-821 and related requests for EADs online or by mail. However, if you request a fee waiver, you must submit your application by mail. When filing a TPS application, you can also request an EAD by submitting a completed Form I-765 with your Form I-821.

Online filing: Form I-821 and Form I-765 are available for concurrent filing online.¹¹¹ To file these forms online, you must first create a USCIS online account.¹¹²

¹¹¹ Find information about online filing at “Forms Available to File Online,” https://www.uscis.gov/file-online/forms-available-to-file-online.

¹¹² https://myaccount.uscis.gov/users/sign_up.

Mail filing: Mail your completed Form I-821; Form I-765, if applicable; Form I-912, if applicable; and supporting documentation to the proper address in Table 1—Mailing Addresses.

Table 1—Mailing Addresses
If . . . | Mail to . . .
You live in Florida, and you are using the U.S. Postal Service (USPS) | USCIS Attn: TPS Haiti, P.O. Box 660167, Dallas, TX 75266-0167.
You live in Florida, and you are using FedEx, UPS, or DHL | USCIS Attn: TPS Haiti (Box 660167),2501 S State Highway, 121, Business Suite 400, Lewisville, TX 75067-8003.
You live in Massachusetts or New York, and you are using the U.S. Postal Service (USPS) | USCIS Attn: TPS Haiti, P.O. Box 4091, Carol Stream, IL 60197-4091.
You live in Massachusetts or New York, and you are using FedEx, UPS, or DHL | USCIS Attn: TPS Haiti (Box 4091), 2500 Westfield Drive, Elgin, IL 60124-7836.
You live in any other state or territory, and you are using the U.S. Postal Service (USPS) | USCIS Attn: TPS Haiti, P.O. Box 24047, Phoenix, AZ 85074-4047.
You live in any other state or territory, and you are using FedEx, UPS, or DHL | USCIS Attn: TPS Haiti (Box 24047), 2108 East Elliot Road, Tempe, AZ 85284-1806.

If you were granted TPS by an immigration judge (IJ) or the Board of Immigration Appeals (BIA) and you wish to request an EAD, please file online or mail your Form I-765 to the appropriate address in Table 1. If you file online, please include the fee. If you file by mail, please include the fee or fee waiver request. When you request an EAD based on an IJ or BIA grant of TPS, please include with your application a copy of the order from the IJ or BIA granting you TPS. This will help us verify your grant of TPS and process your application.

Supporting Documents

The filing instructions for Form I-821 list all the documents you need to establish eligibility for TPS. You may also find information on the acceptable documentation and other requirements for applying (also called registering) for TPS on the USCIS website at https://www.uscis.gov/tps under “Haiti.”

Travel

TPS beneficiaries may also apply for and be granted travel authorization as a matter of discretion. You must file for travel authorization if you wish to travel outside of the United States. If USCIS grants travel authorization, it gives you permission to leave the United States and return during a specific period. To request travel authorization, you must file Form I-131, available at https://www.uscis.gov/i-131. You may file Form I-131 together with your Form I-821 or separately. When you file Form I-131, you must:

• Select Item Number 1.d. in Part 2 on the Form I-131; and

• Submit the fee for Form I-131, or request a fee waiver, which you may submit on Form I-912.

If you are filing Form I-131 together with Form I-821, send your forms to the address listed in Table 1. If you are filing Form I-131 separately based on a pending or approved Form I-821, send your form to the address listed in Table 2 and include a copy of Form I-797 for your approved or pending Form I-821.

Table 2—Mailing Addresses
If you are . . . | Mail to . . .
Filing Form I-131 together with Form I-821 | The address provided in Table 1.
Filing Form I-131 based on a pending or approved Form I-821, and you are using the U.S. Postal Service (USPS): You must include a copy of the Notice of Action (Form I-797C or I-797) showing USCIS accepted or approved your Form I-821. | USCIS, Attn: I-131 TPS, P.O. Box 660167, Dallas, TX 75266-0867.
Filing Form I-131 based on a pending or approved Form I-821, and you are using FedEx, UPS, or DHL: You must include a copy of the Notice of Action (Form I-797C or I-797) showing USCIS accepted or approved your Form I-821. | USCIS, Attn: I-131 TPS, 2501 S. State Hwy. 121 Business, Ste. 400, Lewisville, TX 75067.

Biometric Services Fee for TPS

Biometrics (such as fingerprints) are required for all applicants, in addition to a biometric services fee. As previously stated, if you cannot pay the biometric services fee, you may request a fee waiver, which you may submit on Form I-912. For more information on the application forms and fees for TPS, please visit the USCIS TPS web page at https://www.uscis.gov/tps. USCIS may require you to visit an Application Support Center to have your biometrics collected. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at https://uscis.gov or visit the USCIS Contact Center at https://www.uscis.gov/contactcenter. If you still need assistance, you may ask a question about your case online at https://egov.uscis.gov/e-request/Intro.do or call the USCIS Contact Center at 800-375-5283 (TTY 800-767-1833).

Am I eligible to receive an automatic extension of my current EAD through August 3, 2025, through this Federal Register notice?

Yes. Regardless of your country of birth, if you currently have a Haiti TPS-based EAD with the notation A-12 or C-19 under Category and a “Card Expires” date of August 3, 2024, June 30, 2024, February 3, 2023, December 31, 2022, October 4, 2021, January 4, 2021, January 2, 2020, July 22, 2019, January 22, 2018, or July 22, 2017, this Federal Register notice automatically extends your EAD through August 3, 2025. Although this Federal Register notice automatically extends your EAD through August 3, 2025, you must timely re-register for TPS in accordance with the procedures described in this Federal Register notice to maintain your TPS and avoid possible gaps in your employment authorization documentation.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three business days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in these lists. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for more information. If your EAD states A-12 or C-19 under Category and has a “Card Expires” date of August 3, 2024, June 30, 2024, February 3, 2023, December 31, 2022, October 4, 2021, January 4, 2021, January 2, 2020, July 22, 2019, January 22, 2018, or July 22, 2017, this Federal Register notice extends it automatically, and you may choose to present your EAD to your employer as proof of identity and employment eligibility for Form I-9 through August 3, 2025, unless your TPS has been withdrawn or your request for TPS has been denied. Your country of birth noted on the EAD does not have to reflect the TPS-designated country of Haiti for you to be eligible for this extension.

What documentation may I present to my employer for Form I-9 if I am already employed but my current TPS-related EAD is set to expire?

Even though we have automatically extended your EAD, your employer is required by law to ask you about your continued employment authorization. Your employer may need to reexamine your automatically extended EAD to check the “Card Expires” date and Category code if your employer did not keep a copy of your EAD when you initially presented it. Once your employer has reviewed the “Card Expires” date and Category code, they should update the EAD expiration date in Section 2 of Form I-9. See the section “What updates should my current employer make to Form I-9 if my EAD has been automatically extended?” of this Federal Register notice for more information. You may show this Federal Register notice to your employer to explain what to do for Form I-9 and to show that USCIS has automatically extended your EAD through August 3, 2025, but you are not required to do so. The last day of the automatic EAD extension is August 3, 2025. Before you start work on August 4, 2025, your employer is required by law to reverify your employment authorization on Form I-9. By that time, you must present any document from List A or any document from List C on Form I-9 Lists of Acceptable Documents, or an acceptable List A or List C receipt described in these lists to reverify employment authorization.

Your employer may not specify which List A or List C document you must present and cannot reject an acceptable receipt.

If I have an EAD based on another immigration status, can I obtain a new TPS-based EAD?

Yes, if you are eligible for TPS, you can obtain a new TPS-based EAD, even if you already have an EAD or work authorization based on another immigration status. If you want to obtain a new TPS-based EAD valid through February 3, 2026, you must file Form I-765 and pay the associated fee (unless USCIS grants your fee waiver request).

Can my employer require that I provide any other documentation to complete Form I-9, such as evidence of my status, proof of my Haitian citizenship, or a Form I-797C showing that I registered for TPS?

No. When completing Form I-9, employers must accept any documentation you choose to present from the Form I-9 Lists of Acceptable Documents that reasonably appears to be genuine and that relates to you, or an acceptable List A, List B, or List C receipt. Employers may not request other documentation, such as proof of Haitian citizenship or proof of registration for TPS, when completing Form I-9 for new hires or reverifying the employment authorization of current employees. If you present an EAD that USCIS has automatically extended, employers should accept it as a valid List A document if the EAD reasonably appears to be genuine and to relate to you. Refer to the “Note to Employees” section of this Federal Register notice for important information about your rights if your employer rejects lawful documentation, requires additional documentation, or otherwise discriminates against you based on your citizenship or immigration status or your national origin.

How do my employer and I complete Form I-9 using my automatically extended EAD for a new job?

When using an automatically extended EAD to complete Form I-9 for a new job before August 4, 2025:

1. For Section 1, you should:

a. Check “A noncitizen authorized to work until” and enter August 3, 2025, as the “expiration date”; and

b. Enter your USCIS number or A-Number where indicated. (Your EAD or other document from DHS will have your USCIS number or A-Number printed on it; the USCIS number is the same as your A-Number without the A prefix.)

2. For Section 2, employers should:

a. Determine whether the EAD is auto-extended by ensuring it is in category A-12 or C-19 and has a “Card Expires” date of August 3, 2024, June 30, 2024, February 3, 2023, December 31, 2022, October 4, 2021, January 4, 2021, January 2, 2020, July 22, 2019, January 22, 2018, or July 22, 2017;

b. Write in the document title;

c. Enter the issuing authority;

d. Provide the document number; and

e. Write August 3, 2025, as the expiration date.

Before the start of work on August 4, 2025, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine whether your EAD is automatically extended by ensuring that it contains Category A-12 or C-19 and has a “Card Expires” date of August 3, 2024, June 30, 2024, February 3, 2023, December 31, 2022, October 4, 2021, January 4, 2021, January 2, 2020, July 22, 2019, January 22, 2018, or July 22, 2017. Your employer may not rely on the country of birth listed on the card to determine whether you are eligible for this extension.

If your employer determines that USCIS has automatically extended your EAD, they should update Section 2 of your previously completed Form I-9 as follows:

1. Write EAD EXT and August 3, 2025, as the last day of the automatic extension in the Additional Information field; and

2. Initial and date the correction.

Note: This is not considered a reverification. Employers do not reverify the employee until either the automatic extension has ended, or the employee presents a new document to show continued employment authorization, whichever is sooner. By August 4, 2025, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter August 3, 2025, as the expiration date for an EAD that has been extended under this Federal Register notice.

If I am an employer enrolled in E-Verify, what do I do when I receive a “Work Authorization Documents Expiring” alert for an automatically extended EAD?

E-Verify automated the verification process for TPS-related EADs that are automatically extended. If you have an employee who provided a TPS-related EAD when they first started working for you, you will receive a “Work Authorization Documents Expiring” case alert when the auto-extension period for this EAD is about to expire. Before this employee starts work on August 4, 2025, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English, Spanish, and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in many languages. Employers may also email IER at IER@usdoj.gov or get more information online at https://www.justice.gov/ier.

Note to Employees

For general questions about the employment eligibility verification process, employees may call USCIS at 888-897-7781 (TTY 877-875-6028) or email USCIS at I-9Central@uscis.dhs.gov. USCIS accepts calls and emails in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in many languages.

To comply with the law, employers must accept any document or combination of documents from the Lists of Acceptable Documents if the documentation reasonably appears to be genuine and to relate to the employee, or an acceptable List A, List B, or List C receipt as described in these lists. Employers may not require extra or additional documentation other than what is required to complete Form I-9. Further, employers participating in E-Verify who receive an E-Verify case result of “Tentative Nonconfirmation” (mismatch) must promptly inform employees of the mismatch and give these employees an opportunity to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result occurs if E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action, reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your current EAD with a TPS category code of A-12 or C-19, even if your country of birth noted on the EAD does not reflect the TPS-designated country of Haiti;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation about which document(s) the agency will accept.

Some state and local government agencies use SAVE to confirm the current immigration status of applicants for public benefits. While SAVE can verify that an individual has TPS or a pending TPS application, each agency's procedures govern whether they will accept an unexpired EAD, Form I-797, Form I-797C, or Form I-94. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-Number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://www.uscis.gov/save/save-casecheck. CaseCheck is a free service that lets you follow the progress of your SAVE verification case using your date of birth and one immigration identifier number (such as your A-Number, USCIS number, or Form I-94 number) or Verification Case Number. If an agency has denied your application based solely or in part on a SAVE response, the agency must allow you to appeal the decision in accordance with the agency's procedures. If the agency has received and acted on or will act on a SAVE verification and you do not believe the SAVE response is correct, the SAVE website, https://www.uscis.gov/save, has detailed information on how to correct or update your immigration record, make an appointment, or submit a written request to correct records.

[FR Doc. 2024-14247 Filed 6-28-24; 8:45 am]

BILLING CODE 9111-97-P